DEPARTMENT OF ENERGY

Federal Energy Regulatory Commission

[Project No. 2277-000]

AmerenUE; Notice of Intent to File Application for New License

March 4, 2005.

Take notice that the following notice of intent has been filed with the Commission and is available for public inspection:

a. Type of Filing: Notice of intent to file application for a new license.

b. Project No: 2277-000.

c. Date Filed: February 17, 2005.

d. Submitted by: AmerenUE.

e. Name of Project: Taum Sauk Pumped Storage Project.

f. Location: The project is located on the East Fork Black River and Taum Sauk Creek, in Reynolds, Iron, St. Francois, and Washington counties, near the Town of Lesterville, Missouri. The project does not occupy any Federal lands.

g. Filed Pursuant to: Section 15 of the Federal Power Act, 18 CFR 16.6.

h. Effective Date of Current License: July 1, 1960.

i. Expiration Date of Current License: June 30, 2010.

j. Project Description: The Taum Sauk Project consists of the following principal features: (1) A 54.5-acre upper reservoir, having a total useable volume of 4,360 acre-feet; (2) a 55-foot-high, 390-foot-long, ogee-shaped concrete-gravity dam, with (i) a 26-foot-long gated sluice, (ii) a steel-lined conduit having a capacity of 2,500 cubic feet per second (cfs), and (iii) a crest elevation of 750 feet mean sea level (msl); (3) a 380-acre lower reservoir at an elevation of 749 feet msl; (4) an approximately 2,000-foot-long tailrace channel; (5) a sediment trap located just upstream of the tailrace channel on the East Fork Black River; (6) a 451-foot-long vertical shaft, a 6,572-foot-long (2-section) tunnel, and a short penstock that bifurcates into the powerhouse; (7) a 148-foot-long, 70-foot-wide concrete powerhouse equipped with two reversible pump units that are connected to a generator having a rated capacity of 204 megawatts (MW), for a total installed capacity of 408 MW; and (8) transmission and other appurtenant facilities.

AmerenUE proposes no changes to the existing pump-storage operation of the project, at this time. AmerenUE is proposing to investigate certain operational constraints that include sediment build-up, potential hydraulic constraints, and electrical/mechanical constraints. In addition, AmerenUE intends to remove the currently, licensed 30-mile-long, 138-kilovolt transmission line from the project.

k. Pursuant to 18 CFR 16.7, information on the project is available from Brenda Parks, AmerenUE—Taum Sauk Plant, Route 1, P.O. Box 112, Annapolis, MO 63620, (573) 637-2281.

l. FERC Contact: Allan Creamer, 888 First St. NE., Washington, DC; 202-502-8365; allan.creamer@ferc.gov.

m. The licensee states its unequivocal intent to submit an application for a new license for Project No. 2277. Pursuant to 18 CFR 16.8, 16.9, and 16.10, each application for a new license and any competing license applications must be filed with the Commission at least 24 months prior to the expiration of the existing license. All applications for license for this project must be filed by June 30, 2008.

n. A copy of this filing is available for review at the Commission in the Public Reference Room or may be viewed on the Commission's Web site at http://www.ferc.gov using the “eLibrary” link. Enter the docket number to access the document excluding the last three digits in the docket number field to access the document. For assistance, contact FERC Online Support at FERCOnlineSupport@ferc.gov or toll-free at 1-866-208-3676, or TTY 202-502-8659. A copy is also available for inspection and reproduction at the address in item k above.

o. Register online at http://www.ferc.gov/docs-filing/esubscription.asp to be notified via e-mail of new filings and issuances related to this or other pending projects. For assistance, contact FERC Online Support as shown in the paragraph above.

p. By this notice, the Commission is seeking corrections and updates to the attached mailing list. Updates should be filed with Magalie R. Salas, Secretary, Federal Energy Regulatory Commission, 888 First St., NE., Washington, DC 20426.

Magalie R. Salas,
Secretary.

[FR Doc. E5-1053 Filed 3-11-05; 8:45 am]

BILLING CODE 6717-01-P